DEPARTMENT OF AGRICULTURE

Submission for OMB Review; Comment Request

July 22, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program—Store Applications

OMB Control Number: 0584-0008

Summary of Collection: Section 9(a) of the Food and Nutrition Act of 2008 as amended, (7 U.S.C. 2018 et seq.) requires that the Food and Nutrition Service (FNS) provide for the submission of applications for approval by retailers, wholesalers, meal service providers, certain types of group homes, shelters, and state-contracted restaurants that wish to participate in the Supplemental Nutrition Program (SNAP). FNS is responsible for reviewing the application in order to determine whether or not applicants meet eligibility requirements, and make determinations whether to grant or deny authorization to accept and redeem SNAP benefits. FNS will collect information using forms FNS-252, Supplemental Nutrition Assistance Program Application for Store, FNS-252-E, On line Supplemental Nutrition Assistance Program Application for Store, FNS 252-2, Supplemental Nutrition Assistance Program for Meal Service Application, FNS-252-C, Corporate Supplemental Application, and FNS 252-R, Supplemental Nutrition Assistance Program for Stores Reauthorization and FNS-252FE, Supplemental Nutrition Assistance Program Farmer's Market Application.

Need and Use of the Information: FNS will collect information to determine the eligibility of retail food stores, wholesale food concern, and food service organizations applying for authorization to accept and redeem SNAP benefits and to monitor these firms for continued eligibility, and to sanction stores for noncompliance with the Act, and for Program management. Disclosure of information other than Employer Identification Numbers and Social Security Numbers may be made to Federal and State law enforcement or investigative agencies or instrumentalities administering or enforcing specified Federal or State laws, or regulations issued under those laws. Without the information on the application or reauthorization application, the consequence to the Federal program is the Agency's reduced ability to effectively monitor accountability for program compliance and to detect fraud and abuse would be severely jeopardized.

Description of Respondents: Business or other for-profit, Not-for-profit, Farms.

Number of Respondents: 150,030.

Frequency of Responses: Reporting: On occasion.

Total Burden Hours: 15,986.

Food and Nutrition Service

Title: Report of Supplemental Nutrition Assistance Program Issuance and Report of Commodity Distribution for Disaster Relief.

OMB Control Number: 0584-0037.

Summary of Collection: Food Distribution in disaster situations is authorized under Section 32 of the Act of August 24, 1935 (7 U.S.C. 612c), as amended; Section 416 of the Food and Agriculture Act of 1949 (7 U.S.C. 1431), as amended; Section 709 of the Food and Agriculture Act of 1965 (7 U.S.C. 1446a-1), as amended; Section 4(a) of the Agriculture and Consumer Protection Act of 1973 (7 U.S.C. 612c note), as amended; and by Sections 412 and 413 of the Robert T. Stafford Disaster Relief and Emergency Assistance Act (42 U.S.C. 5179, 5180). Surplus foods are made available by State distributing agencies for relief purposes to victims of natural disasters such as hurricanes, floods, tornadoes, etc. Participating local organizations use surplus foods for both central feeding operations and for distribution to families in homes cut off from normal sources of food supply. Disaster assistance through the Supplemental Nutrition Assistance Program (SNAP) is authorized by sections 402 and 502 of the Robert T. Stafford Disaster Relief and Emergency Assistance Act (42 U.S.C. 5121 et seq.) and the temporary emergency provisions contained in Section 5 of the Food and Nutrition Act of 2008, and in 7 CFR part 280 of the SNAP regulations.

Need and Use of the Information: FNS will collect information through the use of form FNS-292-A and B, which is used by the FNS Administrator, the Food Distribution Division, and the three SNAP divisions to monitor program activity, assess coverage provided to needy recipients, and assure the validity of requested commodity reimbursement and to prepare budget requests. If the information were not collected, FNS would be unable to monitor the issuance of SNAP benefits and the distribution of surplus foods during disaster situations, ensure integrity and reimburse States appropriately for their disaster relief efforts.

Description of Respondents: State, Local, or Tribal Government.

Number of Respondents: 55.

Frequency of Responses: Recordkeeping; On occasion.

Total Burden Hours: 9.

Ruth Brown,
Departmental Information Collection Clearance Officer.

[FR Doc. 2014-17623 Filed 7-25-14; 8:45 am]

BILLING CODE 3410-30-P